DEPARTMENT OF DEFENSE

Department of the Army

Notice of Partnership Under a Cooperative Research and Development Agreement

AGENCY: Department of the Army, DoD.

ACTION: Notice

SUMMARY: Announcement is made of the Notice of Partnership under a Cooperative Research and Development Agreement (CRADA) to Innovative Biosensors, Inc., Gaithersburg, MD to work on a Development of Biosensor Detection System for West Nile Virus.

ADDRESSES: Commander, U.S. Army Medical Research and Materiel Command, ATTN: Command Judge Advocate, MCMR-JA, 504 Scott Street, Fort Detrick, Frederick, MD 21702-5012.

DATES: Submit comments by February 11, 2004.

FOR FURTHER INFORMATION CONTACT: All comments should be addressed within 15 days from the date of this notice to Maryam Azarion, Office of Research and Technology Applications, 521 Fraim Street, Fort Detrick, MD 21702-5015 at (301) 619-5034.

Luz D. Ortiz,
Army Federal Register Liaison Officer.

[FR Doc. 04-1725 Filed 1-26-04; 8:45 am]

BILLING CODE 3710-08-M